DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of February 25, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Fremont County, Iowa and Incorporated Areas
Docket No.: FEMA-B-1859 and FEMA-B-2031
City of Farragut | City Hall, 518 Hartford Avenue, Farragut, IA 51639.
City of Hamburg | City Office, 1201 Main Street, Hamburg, IA 51640.
City of Imogene | Fremont County Courthouse, 2014 290th Avenue, Sidney, IA 51652.
City of Randolph | City Hall, 107 South Main Street, Randolph, IA 51649.
City of Riverton | City Office, 803 Summer Avenue, Riverton, IA 51650.
City of Sidney | City Hall, 604 Clay Street, Sidney, IA 51652.
Town of Thurman | Fremont County Courthouse, 2014 290th Avenue, Sidney, IA 51652.
Unincorporated Areas of Fremont County | Fremont County Courthouse, 2014 290th Avenue, Sidney, IA 51652.
Metropolitan Government of Nashville and Davidson County, Tennessee and Incorporated Areas
Docket No.: FEMA-B-2069
City of Forest Hills | Forest Hills City Hall, 6300 Hillsboro Pike, Nashville, TN 37215.
City of Goodlettsville | David Wilson Community Development Building, 318 North Main Street, Goodlettsville, TN 37072.
Metropolitan Government of Nashville-Davidson County | Metro Water and Sewage Service, 1600 Second Avenue North, Nashville, TN 37208.
Washington County, Wisconsin and Incorporated Areas
Docket No.: FEMA-B-2019
City of West Bend | City Hall, 1115 South Main Street, West Bend, WI 53095.
Unincorporated Areas of Washington County | Washington County Government Center, 432 East Washington Street, Suite 3029, West Bend, WI 53095.
Village of Germantown | Village Hall, N112 W17001 Mequon Road, Germantown, WI 53022.
Village of Jackson | Village Hall, N168 W20733 Main Street, Jackson, WI 53037.
Village of Richfield | Richfield Village Hall, 4128 Hubertus Road, Hubertus, WI 53033.

[FR Doc. 2021-23751 Filed 10-29-21; 8:45 am]

BILLING CODE 9110-12-P